DEPARTMENT OF ENERGY

Environmental Management Site-Specific Advisory Board Chairs Meeting

AGENCY: Department of Energy.

ACTION: Notice of open meeting.

SUMMARY: This notice announces a meeting of the Environmental Management Site-Specific Advisory Board (EMSSAB) Chairs. The Federal Advisory Committee Act (Pub. L. 92-463, 86 Stat. 770) requires that public notice of these meetings be announced in the Federal Register.

DATES: Thursday, September 22, 2005—8:15 a.m.—5:15 p.m.

Friday, September 23, 2005—8:30 a.m.—12 p.m.

ADDRESSES: Ameritel Inns, 645 Lindsay Boulevard, Idaho Falls, ID 83402, (208) 523-1400.

FOR FURTHER INFORMATION CONTACT: Jay Vivari, Program Management Specialist (EM-30.1), Department of Energy, 1000 Independence Avenue, SW., Washington, DC 20585, (202) 586-5143.

SUPPLEMENTARY INFORMATION: Purpose of the Board: The purpose of the EMSSAB is to make recommendations to DOE and its regulators in the areas of environmental restoration, waste management, and related activities.

Tentative Agenda:

Thursday, September 22, 2005.

8:15 a.m. Welcome and Overview.

David Kipping, Idaho National Laboratory (INL) CAB Chair, and Richard Provencher, Idaho Operations Assistant Manager for EM, to welcome participants; Melissa Nielson, Director of Internal/External Coordination and Doug Frost, Designated Federal Officer, to open meeting; and Wendy Green Lowe, Facilitator, to review meeting objectives, agenda, and ground rules.

8:45 a.m. Round Robin 1: Top Waste Disposition Issues for Each Site-Specific Advisory Board (SSAB).

Each Board has five minutes, followed by 30 minutes for questions and answers, and discussion.

10 a.m. Break.

10:15 a.m. Low-Level Waste (LLW) and Mixed Low-Level Waste (MLLW).

Disposition Strategies.

Briefing by Christine Gelles, Director of Commercial Disposition Options, on EM's complex-wide LLW and MLLW disposition strategies, followed by a discussion with the Chairs.

11:45 a.m. Public Comment Period.

12 p.m. Lunch.

1 p.m. Transuranic (TRU) and High-Level Waste (HLW) Issues.

Briefing by Frank Marcinowski, Deputy Assistant Secretary for Logistics and Waste Disposition, on TRU and HLW disposition issues, including planned documents and schedules, followed by a discussion with the Chairs.

2:30 p.m. Break.

2:45 p.m. Communications Protocol for Waste Disposition Information.

Brief overview of protocol for communications between DOE-Headquarters, Boards and sites.

3 p.m. Waste Disposition Issues.

Facilitated discussion among the Chairs related to waste disposition presentations and their reactions and concerns. Facilitated discussion regarding the potential for developing a joint product related to this topic.

4:45 p.m. Public Comment Period.

5 p.m. Review of Day One Discussions; Overview of Day Two.

Facilitated discussion of reactions to the information presented and an overview of the second day's activities.

Friday, September 23, 2005.

8:30 a.m. Opening.

Welcome and Overview of Day Two Discussions.

8:45 a.m. Round Robin 2: Top Three Issues for Each SSAB.

Each Board has five minutes, followed by 15 minutes for questions and answers, and discussion.

9:45 a.m. Break.

10 a.m. Waste Disposition Issues (continued).

Facilitated follow-up discussions related to joint SSAB product (if necessary and appropriate).

10:30 a.m. Stewardship Activities at INL.

A presentation by members of the INL CAB on Stewardship Activities at INL, followed by a discussion with the Chairs.

11 a.m. SSAB Organizational Issues.

A discussion regarding the timing and location of the next Chairs meeting and whether the SSAB will pursue holding a possible workshop.

11:15 a.m. DOE Organizational Update.

Brief overview of recent developments in the budget and organization at Headquarters.

11:30 a.m. Public Comment Period.

11:45 a.m. Meeting Wrap-Up.

David Kipping, INL CAB Chair, Closing Remarks.

12 p.m. Adjourn.

Public Participation: The meeting is open to the public. Written statements may be filed with the Board either before or after the meeting. Individuals who wish to make oral statements pertaining to agenda items should contact Jay Vivari at the address above or by telephone at (202) 586-5143. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes of this meeting will be available for public review and copying at the U.S. Department of Energy Freedom of Information Public Reading Room, 1E-190, Forrestal Building, 1000 Independence Avenue, SW., Washington, DC 20585 between 9 a.m. and 4 p.m., Monday-Friday except Federal holidays. Minutes will also be available by calling Jay Vivari at (202) 586-5143.

Issued at Washington, DC, on August 22, 2005.
Carol Matthews,
Acting Advisory Committee Officer.

[FR Doc. 05-16998 Filed 8-25-05; 8:45 am]

BILLING CODE 6450-01-P